DEPARTMENT OF DEFENSE

Department of the Air Force

[Docket ID: USAF-2019-HQ-0002]

Submission for OMB Review; Comment Request

AGENCY: Department of the Air Force, DoD.

ACTION: 30-Day information collection notice.

SUMMARY: The Department of Defense has submitted to OMB for clearance the following proposal for collection of information under the provisions of the Paperwork Reduction Act.

DATES: Consideration will be given to all comments received by June 10, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: Emergency Mass Notification System (EMNS); OMB Control Number 0701-XXXX.

Type of Request: New collection.

Number of Respondents: 1,000,000.

Responses per Respondent: 1.

Annual Responses: 1,000,000.

Average Burden per Response: 1 minute.

Annual Burden Hours: 16,667.

Needs and Uses: The Emergency Mass Notification System is an Air Force enterprise-wide system that employs commercial software to send notices to the AF population through desktop, mobile application, telephone, text messaging alerts, and Giant Voice systems at Main Operating Bases (MOB). This system provides individuals with near-real time notifications sent directly from the AF/MAJCOM/Installation command posts.

This single AF enterprise solution will provide lifesaving and mission protective measures within the AF. The system shall have the capability of delivering reliable and secure emergency threat notifications to all personnel at all AF locations on a 24 hour/7 day a week basis.

EMNS is designated as a National Security System (NSS). EMNS must be maintained as a high integrity, high availability capability vital to operational readiness. The absence of such a system could result in immediate and sustained loss of mission effectiveness.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela James.

Requests for copies of the information collection proposal should be sent to Ms. James at whs.mc-alex.esd.mbx.dd-dod-information-collections@mail.mil.

Dated: May 3, 2019.
Aaron T. Siegel,
Alternate OSD Federal Register Liaison Officer, Department of Defense.

[FR Doc. 2019-09505 Filed 5-8-19; 8:45 am]

BILLING CODE 5001-06-P